DEPARTMENT OF HEALTH AND HUMAN SERVICES

Administration for Children and Families

Submission for OMB Review; Comment Request

Title: TANF Labor Market Survey.

OMB No.: New Collection.

Description: Understanding the motivations, hiring practices, and work place policies of employers—the demand side of the labor market—can provide considerable information to policy makers interested in promoting work and advancement among welfare recipients and other less-skilled workers. This project will add to our knowledge in this area by surveying employers in the TANF/low-wage labor market. We will survey a national sample of employers, focusing on industry sectors with the most jobs in the low-wage labor market, the employers most relevant for the majority of current and recent TANF recipients. The survey will gather information from employers on their attitudes, practices, and policies toward TANF recipient and other low-skill hires, including information on worker advancement, the use of work force intermediaries in hiring, and the role that child care plays in worker retention. The survey will allow for comparisons of employers in urban-core areas, suburbs, and exurbs/rural areas. It will also measure employment outcomes for TANF recipients and other low-skilled workers, allowing us to draw connections between employer practices and employee outcomes. In short, this national survey of employers in the low-wage labor market can provide key information on what employer practices and policies are and how they are associated with workplace success for welfare recipients and other less-skilled workers.

Respondents: A nationally representative sample of business establishments having 4 or more workers.

Annual Burden Estimates
Instrument | Number of respondents | Number of responses per respondent | Average burden hours per response | Total burden hours
TANF Labor Market Survey | 1,300 | 1 | 0.33 | 429

Estimated Total Annual Burden Hours: 429.

Additional Information: copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF, E-mail address: Katherine_T._Astrich@omb.eop.gov.

Dated: August 15, 2006.
Robert Sargis,
Reports Clearance Officer.

[FR Doc. 06-7036 Filed 8-18-06; 8:45 am]

BILLING CODE 4184-01-M